NATIONAL AERONAUTICS AND SPACE ADMINISTRATION

[Notice: [20-093]]

Name of Information Collection: NASA STEM Gateway Performance Management and Third-Party Experience

AGENCY: National Aeronautics and Space Administration (NASA).

ACTION: Notice of new information collection.

SUMMARY: The National Aeronautics and Space Administration has submitted for OMB review a request regarding this information collection under the provisions of the Paperwork Reduction Act.

DATES: Comments are due by December 14, 2020.

ADDRESSES: Written comments and recommendations for this information collection should be sent within 30 days of publication of this notice to www.reginfo.gov/public/do/PRAMain. Find this particular information collection by selecting “Currently under 30-day Review-Open for Public Comments” or by using the search function.

FOR FURTHER INFORMATION CONTACT: Requests for additional information or copies of the information collection instrument(s) and instructions should be directed to Lori Parker, NASA Clearance Officer, at 202-358-1351 or Lori.Parker@nasa.gov.

SUPPLEMENTARY INFORMATION:

I. Abstract

The NASA STEM Gateway (NASA's universal registration and data management system) is a comprehensive tool designed to allow learners (i.e., students and educators) to apply to NASA STEM engagement opportunities (e.g., internships, fellowships, challenges, educator professional development, experiential learning activities, etc.) in a single location. NASA personnel manage the selection of applicants and implementation of engagement opportunities within the NASA STEM Gateway. In addition to supporting student selection, student-level data will enable NASA Office of STEM Engagement (OSTEM) to fulfill federally mandated performance and evaluation reporting on its STEM engagement activities and report relevant demographic information as needed for Agency performance goals and success criteria (annual performance indicators). Information collected will be used by the NASA OSTEM to establish better defined goals, outcomes, and standards for measuring progress and also to evaluate the outcomes of NASA's STEM Engagement programs and activities. This process of improvement will enhance NASA's strategic planning, performance planning, and performance reporting efforts as required by the GPRA Modernization Act of 2010 and Evidence-Based Policymaking Act of 2018.

II. Methods of Collection

Online/Web-Based

III. Data

Title: NASA STEM Gateway Performance Management and Third Party Experience.

OMB Number: New Collection.

Type of Review: Request for a new OMB Control Number.

Affected Public: Third-Party (Principal Investigators and Evaluators).

Estimated Annual Number of Activities: 4.

Estimated Number of Respondents per Activity: 250.

Annual Responses: 1,000.

Estimated Time per Response: 60 minutes.

Estimated Total Annual Burden Hours: 1,000.

Estimated Total Annual Cost: $25,090.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Roger Kantz,
NASA PRA Clearance Officer.

[FR Doc. 2020-25134 Filed 11-12-20; 8:45 am]

BILLING CODE 7510-13-P